COMMITTEE FOR PURCHASE FROM PEOPLE WHO ARE BLIND OR SEVERELY DISABLED

Procurement List; Additions and Deletions

AGENCY: Committee for Purchase From People Who Are Blind or Severely Disabled.

ACTION: Additions to and deletions from the Procurement List.

SUMMARY: This action adds services to the Procurement List that will be provided by nonprofit agencies employing persons who are blind or have other severe disabilities, and deletes products and a service from the Procurement List previously furnished by such agencies.

DATES: Effective Date: 4/18/2011.

ADDRESSES: Committee for Purchase From People Who Are Blind or Severely Disabled, Jefferson Plaza 2, Suite 10800, 1421 Jefferson Davis Highway, Arlington, Virginia 22202-3259.

FOR FURTHER INFORMATION CONTACT: Barry S. Lineback, Telephone: (703) 603-7740, Fax: (703) 603-0655, or e-mail CMTEFedReg@AbilityOne.gov.

SUPPLEMENTARY INFORMATION:

Additions

Regulatory Flexibility Act Certification

I certify that the following action will not have a significant impact on a substantial number of small entities. The major factors considered for this certification were:

1. The action will not result in any additional reporting, recordkeeping or other compliance requirements for small entities other than the small organizations that will provide the services to the Government.

2. The action will result in authorizing small entities to provide the services to the Government.

3. There are no known regulatory alternatives which would accomplish the objectives of the Javits-Wagner-O'Day Act (41 U.S.C. 46-48c) in connection with the services proposed for addition to the Procurement List.

End of Certification

Accordingly, the following services are added to the Procurement List:

Services

Service Type/Location: Contract Cook Support & Dining Facility Attendant, White Sands Missile Range, NM.

NPA: Tresco, Inc., Las Cruces, NM.

Contracting Activity: Dept of the Army, XR W6BB ACA White Sands Missile, NM.

The DoD contracting activity specifically identified its requirement as Contract Cook Support (CCS) and Dining Facility Attendant (DFA) Service in its Performance Work Statement (PWS). The dining facility (DFAC) associated with this service requirement is newly constructed and will be under the control and military management of the 2D Engineer Battalion when it relocates to White Sands Missile Range (WSMR) under a Base Realignment and Closure action. Food service personnel assigned to the battalion will operate and manage the DFAC and will be augmented by contractor-provided dining facility attendants (DFA).

The PWS describes the DFA service tasks as preparation of vegetables, dining room service (prepare, maintain, clean dining areas; clean condiment containers; clean spills and remove soiled dinnerware; clean dining room tables, chairs, booths; clean dining room walls, baseboards, window ledges, doors, doorframes, ceiling fans, pictures, wall art, artificial plants, light fixtures, etc); buss and replace tray carts during meal serving periods; service and maintain patron self-service area; clean and sanitize food service equipment, utensil cleaning, and dishwashing; clean pots, pans, utensils, storage shelves, and racks; facility maintenance and sanitation; and provide trash and garbage service.

Because the 2d Engineer Battalion is a deployable, combat unit, it may be absent from WSMR as its mission dictates. When deployed, the DFAC will be augmented by contractor-provided cooks to replace absent military food service personnel. The Contracting Officer stated that the military will retain management and operational control during deployments as a Government (civil service) contracting officer's representative will assume those duties. At no time will the contractor be responsible for the management and operational control of the DFAC.

Service Type/Location: Laundry & Dry Cleaning Service, F.E. Warren, AFB, WY.

NPA: Goodwill Industrial Services Corporation, Colorado Springs, CO.

Contracting Activity: Dept of the Air Force, FA4613 90 CONS LGC, F.E. Warren AFB, WY.

Service Type/Location: Custodial Service, 185th Air Refueling Wing, Buildings 234 and 241, 2920 Headquarters Avenue, Sioux City, IA.

NPA: Goodwill Community Rehabilitation Services, Inc., Sioux City, IA.

Contracting Activity: Dept of the Army, XRAW7M8 USPFO Activity IA ARNG, Johnston, IA.

Deletions

On 1/21/2011 (76 FR 3879-3880), the Committee for Purchase From People Who Are Blind or Severely Disabled published notice of proposed deletions from the Procurement List.

After consideration of the relevant matter presented, the Committee has determined that the products and service listed below are no longer suitable for procurement by the Federal Government under 41 U.S.C. 46-48c and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the products and service to the Government.

3. There are no known regulatory alternatives which would accomplish the objectives of the Javits-Wagner-O'Day Act (41 U.S.C. 46-48c) in connection with the products and service deleted from the Procurement List.

End of Certification

Accordingly, the following products and service are deleted from the Procurement List:

Products

Floor Care Products

NSN: 7930-01-486-4050

NSN: 7930-01-486-5928

NSN: 7930-01-486-5930

NPA: Lighthouse for the Blind of Houston, Houston, TX.

Contracting Activity: General Services Administration, Fort Worth, TX.

Service

Service Type/Location: Laundry Service, Atlanta VA Medical Center, Decatur, GA.

NPA: GINFL Services, Inc., Jacksonville, FL.

Contracting Activity: Department of Veterans Affairs, VISN 7 Consolidated Contracting, Augusta, GA.

Barry S. Lineback,
Director, Business Operations.

[FR Doc. 2011-6422 Filed 3-17-11; 8:45 am]

BILLING CODE 6353-01-P